DEPARTMENT OF LABOR

Mine Safety and Health Administration

Fee Adjustment for Testing, Evaluation, and Approval of Mining Products

AGENCY: Mine Safety and Health Administration (MSHA), Labor.

ACTION: Notice of fee adjustment.

SUMMARY: This notice describes MSHA's revised fee schedule for testing, evaluating, and approving mining products as permitted by 30 CFR 5.50. MSHA charges applicants a fee to cover its costs associated with testing and evaluating equipment and materials manufactured for use in the mining industry. The new fee schedule, effective January 1, 2009, is based on MSHA's direct and indirect costs for providing services during fiscal year (FY) 2008.

DATES: This fee schedule is effective January 1, 2009.

FOR FURTHER INFORMATION CONTACT: John P. Faini, Chief, Approval and Certification Center, 304-547-2029 or 304-547-0400.

SUPPLEMENTARY INFORMATION:

I. Background

Under 30 CFR 5.50, MSHA may revise the fee schedule for testing, evaluation, and approval of mining products at least once every three years although the fee schedule must remain in effect for at least one year. MSHA's existing fee schedule, revised December 27, 2007 (72 FR 73380), became effective January 1, 2008.

Under 30 CFR 5.30(a), the new fee adjustment does not apply to the 30 CFR part 15 testing (explosives and sheathed explosive units). In addition, under 30 CFR 5.40, it does not apply to travel expenses incurred under this Part. When the nature of the product requires MSHA to test and evaluate the product at a location other than on MSHA premises, MSHA must be reimbursed for the travel, subsistence, and incidental expenses of its representative according to Federal government travel regulations. This reimbursement is separate from, and in addition to, the fees charged for evaluation and testing.

II. Fee Computation

MSHA computed the 2009 fees using FY 2008 costs for baseline data. MSHA calculated a weighted-average based on the direct and indirect costs to applicants for testing, evaluation, and approval services rendered during FY 2008. From this average, MSHA computed a single hourly rate, which applies uniformly to all applications.

As a result of this process, MSHA has determined that as of January 1, 2009, the fee will be $90 per hour of services rendered.

III. Applicable Fee

• Applications postmarked before January 1, 2009: MSHA will process these applications under the 2008 hourly rate of $84.

• Applications postmarked on or after January 1, 2009: MSHA will process these applications under the 2009 hourly rate of $90. This information is available on MSHA's Web site at http://wwww.msha.gov.

Richard E. Stickler,
Acting Assistant Secretary for Mine Safety and Health.

[FR Doc. E8-30623 Filed 12-23-08; 8:45 am]

BILLING CODE 4510-43-P